DEPARTMENT OF TRANSPORTATION

Federal Aviation Administration

14 CFR Part 71

[Docket No. FAA-2015-3773; Airspace Docket No. 15-ANM-22]

Amendment of Class E Airspace; Deer Lodge MT

AGENCY: Federal Aviation Administration (FAA), DOT.

ACTION: Final rule, correction.

SUMMARY: This action corrects a final rule published in the Federal Register of March 29, 2016, amending Class E airspace extending upward from 700 feet above the surface at Deer Lodge-City-County Airport, Deer Lodge, MT. The FAA identified that the Class E airspace area extending upward from 1,200 feet above the surface was omitted from the Class E airspace description for the airport.

DATES: Effective 0901 UTC, May 26, 2016. The Director of the Federal Register approves this incorporation by reference action under Title 1, Code of Federal Regulations, part 51, subject to the annual revision of FAA Order 7400.9 and publication of conforming amendments.

FOR FURTHER INFORMATION CONTACT: Richard Roberts, Operations Support Group, Western Service Center, Federal Aviation Administration, P.O. Box 20636, Atlanta, Georgia 30320; telephone (425) 203-4517.

SUPPLEMENTARY INFORMATION:

History

The FAA published a final rule in the Federal Register amending Class E Airspace extending upward from 700 feet above the surface at Deer Lodge-City-County Airport, Deer Lodge, MT. (81 FR 17377, March 29, 2016) Docket No. FAA-2015-3773. Subsequent to publication, the Aeronautical Information Services branch identified that the Class E airspace extending upward from 1,200 feet above the surface was inadvertently left out of the regulatory text describing the boundary for the airport. This action reestablishes the airspace extending upward from 1,200 feet above the surface as part of that description.

Class E airspace designations are published in paragraph 6005, of FAA Order 7400.9Z, dated August 6, 2015, and effective September 15, 2015, which is incorporated by reference in 14 CFR 71.1. The Class E airspace designations listed in this document will be published subsequently in the Order.

Availability and Summary of Documents for Incorporation by Reference

This document amends FAA Order 7400.9Z, Airspace Designations and Reporting Points, dated August 6, 2015, and effective September 15, 2015. Availability information for FAA Order 7400.9Z can be found in the original final rule (81 FR 17377, March 29, 2016). FAA Order 7400.9Z lists Class A, B, C, D, and E airspace areas, air traffic service routes, and reporting points.

Correction to Final Rule

Accordingly, pursuant to the authority delegated to me, in the Federal Register of March 29, 2016 (81 FR 17377) FR Doc. 2016-06934, Amendment of Class E Airspace; Deer Lodge, MT, is corrected as follows:

§ 71.1 [Amended]

ANM MT E5 Deer Lodge, MT [Corrected]

On page 17378, column 3, after line 48, add the following text:

“That airspace extending upward from 1,200 feet above the surface bounded by a line beginning at lat. 46°41′00″ N., long. 114°08′00″ W.; to lat. 47°03′00″ N., long. 113°33′00″ W.; to lat. 46°28′00″ N., long. 112°15′00″ W.; to lat. 45°41′00″ N., long. 112°13′00″ W.; to lat. 45°44′00″ N., long. 113°03′00″ W.; thence to the point of origin.”

Issued in Seattle, Washington, on_April 18, 2016.
Tracey Johnson,
Manager, Operations Support Group, Western Service Center.

[FR Doc. 2016-09699 Filed 4-27-16; 8:45 am]

BILLING CODE 4910-13-P